DEPARTMENT OF COMMERCE

International Trade Administration

Trade Mission to Philippines and Malaysia

AGENCY: International Trade Administration, Department of Commerce.

ACTION: Notice.

SUMMARY: The United States Department of Commerce, International Trade Administration, U.S. and Foreign Commercial Service is amending the Notice published at 78 FR 22237, April 15, 2013, regarding the education industry trade mission to Manila, Philippines and Kuala Lumpur, Malaysia scheduled for October 23-October 30, 2013, to revise the mission description from executive-led to non-executive led.

FOR FURTHER INFORMATION CONTACT: Melissa Branzburg, U.S. Commercial Service, Boston, MA, Phone: 617-565-4309, Email: Melissa.Branzburg@trade.gov.

Frank Spector,
Senior International Trade Specialist.

[FR Doc. 2013-22825 Filed 9-18-13; 8:45 am]

BILLING CODE 3510-FP-P